DEPARTMENT OF DEFENSE

Department of the Air Force

[Docket ID: USAF-2014-0011]

Privacy Act of 1974; System of Records

AGENCY: Department of the Air Force, DoD.

ACTION: Notice to alter a System of Records.

SUMMARY: The Department of the Air Force proposes to alter a system of records, F010 AFSPC A, entitled “Telecommunications Notification System” in its existing inventory of records systems subject to the Privacy Act of 1974, as amended. This system will provide notification, via electronic mail and telephone, for personnel recalls, real world, and exercise threat conditions.

DATES: Comments will be accepted on or before June 2, 2014. This proposed action will be effective the day following the end of the comment period unless comments are received which result in a contrary determination.

ADDRESSES: You may submit comments, identified by dock number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available in FOR FURTHER INFORMATION CONTACT or from the Defense Privacy and Civil Liberties Office Web site at http://dpclo.defense.gov/. The proposed systems reports, as required by 5 U.S.C. 552a(r) of the Privacy Act of 1974, as amended, were submitted on April 7, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 28, 2014.
Aaron Siegel,
Alternate OSD Federal Register Liaison Officer, Department of Defense.

F010 AFSPC A

System name:

Telecommunications Notification System (January 28, 2013, 78 FR 5791).

Changes:

* * * * *

System Location:

Add after last paragraph “Pacific Air Forces, 15th Wing Command Post, Joint Base Pearl Harbor-Hickam, HI 96853.

45 Space Wing Command Post, Patrick Air Force Base, FL 32925-3002.”

Categories of individuals covered by the system:

Delete entry and replace with “Air Force Active duty, Reserve, Air National Guard, government civilians, contractors and foreign nationals assigned to an Air Force base.”

* * * * *

System manager(s) and address:

Add after second to last paragraph “Program Manager, HQ PACAF/A6XP, Joint Base Pearl Harbor-Hickam, HI 96853.

Command Post Superintendent, 15th Wing Command Post, Joint Base Pearl Harbor-Hickam, HI 96853.”

Notification procedure:

Delete entry and replace with “Individuals at the 30 Space Wing Command Post seeking to determine whether information about themselves is contained in this system of records should address written inquiries to the Command Post Superintendent, 30 Space Wing Command Post, 867 Washington Ave, Suite 205, Vandenberg Air Force Base, CA 93437-6117.

Individuals at PACAF seeking to determine whether information about themselves is contained in this system of records should address written inquiries to the Command Post Superintendent, 15th Wing Command Post, Joint Base Pearl Harbor-Hickam, HI 96853.

Individuals at the 45 Space Wing Command Post seeking to determine whether information about themselves is contained in this system of records should address written inquiries to the Command Post Superintendent, 45 Space Wing Command Post, Patrick Air Force Base, FL 32925-3002.

Individuals with the Air National Guard seeking to determine whether information about themselves is contained in this system of records should address written inquiries to the Air National Guard Readiness Center, 3500 Fetchet Avenue Joint Base Andrews, MD 20762-5000.

Individuals seeking to determine whether information about themselves is contained in this system of records at other Air Force installations should address written inquiries to the Command Post Superintendent of that installation. Official mailing addresses are published as an appendix to the Air Force's compilation of systems of records notices.

For verification purposes, individuals should provide their full name, SSN, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths:

‘I declare (or certify, verify, or state) under penalty of perjury that the foregoing is true and correct. Executed on (date). (Signature)'.”

Record access procedures:

Delete entry and replace with “Individuals at the 30 Space Wing Command Post seeking access to information about themselves should address written inquiries to Command Post Superintendent, 30 Space Wing Command Post, 867 Washington Ave, Suite 205, Vandenberg Air Force Base, CA 93437-6117.

Individuals at PACAF seeking access to information about themselves should address written inquiries to Command Post Superintendent, 15th Wing Command Post, Joint Base Pearl Harbor-Hickam, HI 96853.

Individuals at the 45 Space Wing Command Post seeking access to information about themselves should address written inquiries to Command Post Superintendent, 45 Space Wing Command Post, Patrick Air Force Base, FL 32925-3002.

Individuals with the Air National Guard seeking access to information about themselves should address written inquiries to the Air National Guard Readiness Center, 3500 Fetchet Avenue, Joint Base Andrews, MD 20762-5000.

Individuals seeking access to information about themselves at other Air Force installations should address written inquiries to the Command Post Superintendent of that installation. Official mailing addresses are published as an appendix to the Air Force's compilation of systems of records notices.

For verification purposes, individuals should provide their full name, SSN, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths:

‘I declare (or certify, verify, or state) under penalty of perjury that the foregoing is true and correct. Executed on (date). (Signature)'.”

* * * * *

[FR Doc. 2014-09964 Filed 4-30-14; 8:45 am]

BILLING CODE 5001-06-P